DEPARTMENT OF TRANSPORTATION

Federal Aviation Administration

14 CFR Part 39

[Docket No. FAA-2007-27955; Directorate Identifier 2007-NE-15-AD; Amendment 39-15201; AD 2007-19-10]

RIN 2120-AA64

Airworthiness Directives; Rolls-Royce plc RB211 Trent 500 Series Turbofan Engines; Correction

AGENCY: Federal Aviation Administration (FAA), Department of Transportation (DOT).

ACTION: Final rule; correction.

SUMMARY: The FAA is correcting airworthiness directive (AD) 2007-19-10. That AD applies to Rolls-Royce plc RB211 Trent 500 series turbofan engines. We published that AD in the Federal Register on September 18, 2007 (72 FR 53108). The compliance limit of 2,190 cycles-since-new is incorrect in two places. This document corrects that compliance limit to 2,910 cycles-since-new. In all other respects, the original document remains the same.

DATES: Effective Date: Effective October 4, 2007.

FOR FURTHER INFORMATION CONTACT: Christopher Spinney, Aerospace Engineer, Engine Certification Office, FAA, Engine and Propeller Directorate, 12 New England Executive Park, Burlington, MA 01803; e-mail: Christopher.spinney@faa.gov; telephone (781) 238-7175; fax (781) 238-7199.

SUPPLEMENTARY INFORMATION: On September 18, 2007 (72 FR 53108), we published a final rule AD, FR Doc. E7-18324, in the Federal Register. That AD applies to Rolls-Royce plc RB211 Trent 500 series turbofan engines. We need to make the following corrections:

§ 39.13 [Corrected]

On page 53109, in the second column, in the FAA's Determination and Requirements of This AD paragraph, in the 22nd line, “2,190 cycles-since-new” is corrected to read “2,910 cycles-since-new”.

On page 53110, in the second column, in paragraph (e)(1), in the 7th line, “2,190 cycles-since-new” is corrected to read “2,910 cycles-since-new”.

Issued in Burlington, Massachusetts, on September 28, 2007.
Francis A. Favara,
Manager, Engine and Propeller Directorate, Aircraft Certification Service.

[FR Doc. E7-19610 Filed 10-3-07; 8:45 am]

BILLING CODE 4910-13-P